DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce.

ACTION: Notice of Public Comment Period for the Grand Bay, Mississippi National Estuarine Research Reserve Management Plan and the Delaware National Estuarine Research Reserve Management Plan revisions.

SUMMARY: Notice is hereby given that the Estuarine Reserves Division, Office of Ocean and Coastal Resource Management, National Ocean Service, National Oceanic and Atmospheric Administration, U.S. Department of Commerce is announcing a thirty day public comment period for the Grand Bay, Mississippi National Estuarine Research Reserve Management Plan and the Delaware National Estuarine Research Reserve Management Plan revisions. Pursuant to 15 CFR Section 921.33(c), the revised plans will bring the reserves into compliance. The Grand Bay Reserve and Delaware Reserve revised plans will replace the plans approved in 1999 and 2004 respectively. Both revised management plans outline the administrative structure; the research & monitoring, education, training, and stewardship goals of the reserve; and the plans for future land acquisition and facility development to support reserve operations. The Grand Bay Reserve takes an integrated approach to management, linking research, education, training and stewardship functions to address high priority issues including climate change, threats to reserve resources and ecological functions, watershed development, and changes in water quality. Since the last management plan, the reserve has built out its core programs and monitoring infrastructure; constructed a L.E.E.D. certified Coastal Resources Center that includes laboratories, offices, classrooms, interpretative areas and dormitories; and created interpretive trails.

With the approval of this management plan, the Grand Bay Reserve will decrease their total acreage from 18,400 acres to 18,049. The change is attributable to accuracy adjustments based on improved geographic information for the site. The revised management plan will serve as the guiding document for the 18,049 acre Grand Bay Reserve for the next five years. The Delaware management plan will focus on improving the scientific understanding of estuarine and coastal ecosystems; improving public awareness and environmental literacy to enable environmentally sustainable decision-making; and protecting, managing and restoring the reserve to serve as a model site for sustainable community stewardship. Notable changes in the revised plan include a boundary expansion, a new coastal training program, implementation of the Blackbird Creek Reserve Master Ecological Restoration Plan, the opening of the Blackbird Creek Stewardship Center and facility improvements to the St. Jones Coastal Training Center. With the approval of this management plan, the Delaware Reserve will increase their total acreage from 4,930 acres to 6,206. The change is attributable to acquisition of two parcels, totaling 64.3 acres, and increased mapping accuracy. The two parcels possess high ecological value and increased opportunities for research, education, and restoration. The revised management plan will serve as the guiding document for the 6,206 acre Delaware Reserve for the next five years. View the Grand Bay, Mississippi Reserve Management Plan revision at (http://grandbaynerr.org/reserve-management-plan) and provide comments to (dave.ruple@dmr.ms.gov). View the Delaware Reserve Management Plan revision at (http://de.gov/dnerr) and provide comments to (Kimberly.Cole@state.de.us).

FOR FURTHER INFORMATION CONTACT: Matt Chasse at (301) 563-1198 (Grand Bay), Michael Migliori at (301) 563-1126 (Delaware) or Laurie McGilvray at (301) 563-1158 of NOAA's National Ocean Service, Estuarine Reserves Division, 1305 East-West Highway, N/ORM5, 10th floor, Silver Spring, MD 20910.

Dated: April 25, 2013.
Christopher C. Cartwright,
Associate Assistant Administrator for Management and CFO/CAO, Ocean Services and Coastal Zone Management.

[FR Doc. 2013-10372 Filed 5-6-13; 8:45 am]

BILLING CODE 3510-08-P